OFFICE OF PERSONNEL MANAGEMENT

5 CFR Part 575

RIN 3206-AK01

Extended Assignment Incentives

AGENCY: Office of Personnel Management.

ACTION: Final rule.

SUMMARY: The Office of Personnel Management is issuing final regulations on extended assignment incentives, which provide additional flexibility to assist agencies in retaining experienced, well-trained employees in a United States territory, possession, or commonwealth for longer than the employee's initial tour of duty.

DATES: The final regulations are effective on June 16, 2004.

FOR FURTHER INFORMATION CONTACT: Vicki Lynn Draper by telephone at (202) 606-2858; by fax at (202) 606-4264; or by e-mail at pay-performance-policy@opm.gov.

SUPPLEMENTARY INFORMATION: On September 12, 2003, the Office of Personnel Management published interim regulations (68 FR 53667) to implement a statutory amendment that authorized the payment of extended assignment incentives. Section 207 of the 21st Century Department of Justice Appropriations Authorization Act (Pub. L. 107-273, November 2, 2002), added a new section 5757 to chapter 57 of title 5, United States Code, to permit the head of an executive agency to pay an extended assignment incentive to certain Federal employees assigned to positions located in a territory or possession of the United States, the Commonwealth of Puerto Rico, or the Commonwealth of the Northern Mariana Islands. The 60-day comment period for the interim regulations ended on November 12, 2003. We received no comments from either agencies or individuals. Therefore, we are adopting the interim regulations as final, with one minor correction of a regulation citation at § 575.513(a).

Regulatory Flexibility Act

I certify that these regulations will not have a significant economic impact on a substantial number of small entities because they will affect only Federal agencies and employees.

E.O. 12866, Regulatory Review

This rule has been reviewed by the Office of Management and Budget in accordance with Executive Order 12866.

List of Subjects in 5 CFR Part 575

Government employees, Wages.

Office of Personnel Management.
Kay Coles James,
Director.

Accordingly, the interim rule amending part 575 of title 5 of the Code of Federal Regulations, which was published at 68 FR 53667 on September 12, 2003, is adopted as final with the following changes:

PART 575—RECRUITMENT AND RELOCATION BONUSES, RETENTION ALLOWANCES, SUPERVISORY DIFFERENTIALS, AND EXTENDED ASSIGNMENT INCENTIVES

1. The authority citation for part 575 is revised to read as follows:

Authority: 5 U.S.C. 1104(a)(2), 5753, 5754, 5755, and 5757; Pub. L. 107-273, 116 stat. 1780; secs. 302 and 404 of the Federal Employees Pay Comparability Act of 1990 (FEPCA), Pub. L. 101-509, 104 Stat. 1462 and 1466, respectively; E.O. 12748, 3 CFR, 1992 Comp., p. 316.

2. The heading for Part 575 is revised to read as above.

3. In § 575.513, paragraph (a) is revised to read as follows:

§ 575.513 What are the agency's and the employee's obligations when an employee fails to fulfill the terms of a service agreement?

(a) This section does not apply when an employee is involuntarily separated or involuntarily reassigned to a position outside the particular territory, possession, or commonwealth involved, as provided in § 575.511 or when an agency unilaterally terminates a service agreement under § 575.512.

* * * * *

[FR Doc. 04-13559 Filed 6-15-04; 8:45 am]

BILLING CODE 6325-39-P